NATIONAL SCIENCE FOUNDATION

Business and Operations Advisory Committee; Notice of Meeting

In accordance with the Federal Advisory Committee Act (Pub., L. 92-463, as amended), the National Science Foundation (NSF) announces the following meeting:

Name: Business and Operations Advisory Committee (9556).

Date/Time: March 13, 2017; 1:00 p.m. to 4:00 p.m. (EST).

Place: National Science Foundation, 4201 Wilson Boulevard, Arlington, Virginia 22230; Stafford I, Room 1235.

Type of Meeting: OPEN.

Contact Person: Joan Miller, National Science Foundation, 4201 Wilson Boulevard, Arlington, VA 22230; (703) 292-8200.

Purpose of Meeting: To receive, consider, discuss and appropriately treat the recommendations of its Subcommittee on the Implementation of National Academy of Public Administration (NAPA) Recommendations.

Agenda

March 13, 2017; 1:00 p.m.-4:00 p.m.

Discussion of the Subcommittee Report; Meeting Wrap-Up.

Dated: February 13, 2017.
Crystal Robinson,
Committee Management Officer.

[FR Doc. 2017-03239 Filed 2-16-17; 8:45 am]

BILLING CODE 7555-01-P